DEPARTMENT OF ENERGY

Federal Energy Regulatory Commission

Combined Notice of Filings #2

Take notice that the Commission received the following electric rate filings:

Docket Numbers: ER23-2857-000.

Applicants: MS Solar 2, LLC.

Description: § 205(d) Rate Filing: Revised Market-Based Rate Tariff Filing to be effective 11/15/2023.

Filed Date: 9/15/23.

Accession Number: 20230915-5158.

Comment Date: 5 p.m. ET 10/6/23.

Docket Numbers: ER23-2858-000.

Applicants: Balko Wind, LLC.

Description: § 205(d) Rate Filing: Revised Market-Based Rate Tariff Filing to be effective 11/15/2023.

Filed Date: 9/15/23.

Accession Number: 20230915-5084.

Comment Date: 5 p.m. ET 10/6/23.

Docket Numbers: ER23-2859-000.

Applicants: Balko Wind Transmission, LLC.

Description: § 205(d) Rate Filing: Revised Market-Based Rate Tariff Filing to be effective 11/15/2023.

Filed Date: 9/15/23.

Accession Number: 20230915-5087.

Comment Date: 5 p.m. ET 10/6/23.

Docket Numbers: ER23-2860-000.

Applicants: DWW Solar II, LLC.

Description: § 205(d) Rate Filing: Revised Market-Based Rate Tariff Filing to be effective 11/15/2023.

Filed Date: 9/15/23.

Accession Number: 20230915-5090.

Comment Date: 5 p.m. ET 10/6/23.

Docket Numbers: ER23-2861-000.

Applicants: PJM Interconnection, L.L.C.

Description: Tariff Amendment: Notice of Cancellation of Interim ISA, SA No. 5471; Queue No. AC1-051 to be effective 1/10/2022.

Filed Date: 9/15/23.

Accession Number: 20230915-5097.

Comment Date: 5 p.m. ET 10/6/23.

Docket Numbers: ER23-2862-000.

Applicants: PJM Interconnection, L.L.C.

Description: Tariff Amendment: Notice of Cancellation of ISA, SA No. 3407; Queue No. W4-001A_AT9 to be effective 11/15/2023.

Filed Date: 9/15/23.

Accession Number: 20230915-5117.

Comment Date: 5 p.m. ET 10/6/23.

Docket Numbers: ER23-2863-000.

Applicants: PJM Interconnection, L.L.C.

Description: Tariff Amendment: Notice of Cancellation of WMPA, SA No. 6398; Queue No. AG1-029 to be effective 11/15/2023.

Filed Date: 9/15/23.

Accession Number: 20230915-5124.

Comment Date: 5 p.m. ET 10/6/23.

Docket Numbers: ER23-2864-000.

Applicants: PJM Interconnection, L.L.C.

Description: § 205(d) Rate Filing: Designated Entity Agreement, SA No. 7062 between PJM and PPL EU to be effective 8/16/2023.

Filed Date: 9/15/23.

Accession Number: 20230915-5127.

Comment Date: 5 p.m. ET 10/6/23.

Docket Numbers: ER23-2865-000.

Applicants: Cove Mountain Solar 2, LLC.

Description: § 205(d) Rate Filing: Revised Market-Based Rate Tariff Filing to be effective 11/15/2023.

Filed Date: 9/15/23.

Accession Number: 20230915-5142.

Comment Date: 5 p.m. ET 10/6/23.

Docket Numbers: ER23-2866-000.

Applicants: Cove Mountain Solar, LLC.

Description: § 205(d) Rate Filing: Revised Market-Based Rate Tariff Filing to be effective 11/15/2023.

Filed Date: 9/15/23.

Accession Number: 20230915-5143.

Comment Date: 5 p.m. ET 10/6/23.

Docket Numbers: ER23-2867-000.

Applicants: Hunter Solar LLC.

Description: § 205(d) Rate Filing: Revised Market-Based Rate Tariff Filing to be effective 11/15/2023.

Filed Date: 9/15/23.

Accession Number: 20230915-5144.

Comment Date: 5 p.m. ET 10/6/23.

Docket Numbers: ER23-2868-000.

Applicants: Rancho Seco Solar, LLC.

Description: § 205(d) Rate Filing: Revised Market-Based Rate Tariff Filing to be effective 11/15/2023.

Filed Date: 9/15/23.

Accession Number: 20230915-5145.

Comment Date: 5 p.m. ET 10/6/23.

Docket Numbers: ER23-2869-000.

Applicants: Sigurd Solar LLC.

Description: § 205(d) Rate Filing: Revised Market-Based Rate Tariff Filing to be effective 11/15/2023.

Filed Date: 9/15/23.

Accession Number: 20230915-5146.

Comment Date: 5 p.m. ET 10/6/23.

Docket Numbers: ER23-2870-000.

Applicants: Drew Solar-CA, LLC.

Description: § 205(d) Rate Filing: Revised Market-Based Rate Tariff Filing to be effective 11/15/2023.

Filed Date: 9/15/23.

Accession Number: 20230915-5147.

Comment Date: 5 p.m. ET 10/6/23.

Docket Numbers: ER23-2871-000.

Applicants: Drew Solar, LLC.

Description: § 205(d) Rate Filing: Revised Market-Based Rate Tariff Filing to be effective 11/15/2023.

Filed Date: 9/15/23.

Accession Number: 20230915-5149.

Comment Date: 5 p.m. ET 10/6/23.

Docket Numbers: ER23-2872-000.

Applicants: PJM Interconnection, L.L.C.

Description: Tariff Amendment: Notice of Cancellation of ISA, SA No. 3407; Queue No. W4-001A_AT9 to be effective 11/15/2023.

Filed Date: 9/15/23.

Accession Number: 20230915-5160.

Comment Date: 5 p.m. ET 10/6/23.

Docket Numbers: ER23-2873-000.

Applicants: Mid-Atlantic Interstate Transmission, LLC, PJM Interconnection, L.L.C.

Description: § 205(d) Rate Filing: Mid-Atlantic Interstate Transmission, LLC submits tariff filing per 35.13(a)(2)(iii: MAIT Submits Revised Interconnection Agreement, Service Agreement No. 4578 to be effective 11/15/2023.

Filed Date: 9/15/23.

Accession Number: 20230915-5165.

Comment Date: 5 p.m. ET 10/6/23.

Docket Numbers: ER23-2874-000.

Applicants: NorthWestern Energy Public Service Corporation.

Description: Baseline eTariff Filing: NWPS Baseline Market Based Rate Tariff to be effective 11/15/2023.

Filed Date: 9/15/23.

Accession Number: 20230915-5172.

Comment Date: 5 p.m. ET 10/6/23.

Take notice that the Commission received the following electric reliability filings:

Docket Numbers: RR23-2-001.

Applicants: North American Electric Reliability Corporation.

Description: Revised SERC Reliability Corporation Report of Comparisons of Budgeted to Actual Costs for 2022.

Filed Date: 9/14/23.

Accession Number: 20230914-5123.

Comment Date: 5 p.m. ET 10/5/23.

Docket Numbers: RR23-4-000.

Applicants: North American Electric Reliability Corporation.

Description: Petition of the North American Electric Reliability Corporation for approval of revisions to the NERC Rules of Procedure regarding Reliability Standards.

Filed Date: 9/15/23.

Accession Number: 20230915-5151.

Comment Date: 5 p.m. ET 10/6/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 15, 2023.
Debbie-Anne A. Reese,
Deputy Secretary.

[FR Doc. 2023-20468 Filed 9-20-23; 8:45 am]

BILLING CODE 6717-01-P